DEPARTMENT OF AGRICULTURE

Commodity Credit Corporation

7 CFR Part 1496

RIN 0560-AH39

Procurement of Commodities for Foreign Donation

AGENCY: Commodity Credit Corporation, USDA.

ACTION: Proposed rule: reopening and extension of comment period.

SUMMARY: The Commodity Credit Corporation (CCC) is reopening and extending the comment period for the proposed rule, Procurement of Commodities for Foreign Donation. The original comment period for the proposed rule closed January 17, 2006, and CCC is reopening and extending it for 45 days from the date of this notice. CCC also will consider any comments received from January 17, 2006, to the date of this notice. This action responds to requests from the public to provide more time to comment on the proposed rule.

DATES: Comments on the proposed rule published at 70 FR 74717, December 16, 2005, must be submitted by March 9, 2006, to be assured consideration. Comments received after that date will be considered to the extent practical. The deadline for comments on the information collections in the proposed rule remains February 14, 2006, as specified in the proposed rule.

ADDRESSES: CCC invites interested persons to submit comments. Comments may be submitted by any of the following methods:

• E-Mail: Send comments to Richard.Chavez@USDA.gov.

• Fax: Submit comments by facsimile transmission to: (202) 690-2221.

• Mail: Send comments to: Director, Commodity Procurement Policy & Analysis Division, Farm Service Agency, United States Department of Agriculture (USDA), Rm. 5755-S, 1400 Independence Avenue, SW., Washington, DC 20250-0512.

• Hand Delivery or Courier: Deliver comments to the above address.

• Federal Rulemaking Portal: Go to http://www.regulations.gov. Follow the online instructions for submitting comments.

SUPPLEMENTARY INFORMATION: On December 16, 2005, CCC published a proposed rule, Procurement of Commodities for Foreign Donation, in the Federal Register (70 FR 74717). The proposed rule would adopt new procedures to be used by CCC in the evaluation of bids in connection with the procurement of commodities for donation overseas. In general, CCC proposes to amend the existing regulations to provide for the simultaneous review of commodity and ocean freight offers when evaluating lowest-landed cost options in connection with the procurement of commodities. This proposed rule would enhance bidding opportunities for potential vendors while allowing CCC to more efficiently acquire commodities.

The Agency believes the request for additional time to comment on the proposed rule is reasonable and will allow the rulemaking to proceed in a timely manner. As a result of the reopening and extension, the comment period for the proposed rule will close on March 9, 2006.

Signed in Washington, DC, January 13, 2006.
Teresa C. Lasseter,
Executive Vice-President, Commodity Credit Corporation.

[FR Doc. E6-683 Filed 1-20-06; 8:45 am]

BILLING CODE 3410-05-P